DEPARTMENT OF HEALTH AND HUMAN SERVICES

Centers for Disease Control and Prevention

Advisory Committee on Childhood Lead Poisoning Prevention: Notice of Charter Renewal

This gives notice under the Federal Advisory Committee Act (Pub. L. 92-463) of October 6, 1972, that the Advisory Committee on Childhood Lead Poisoning Prevention, Department of Health and Human Services, has been renewed for a 2-year period through October 31, 2011.

For information, contact Dr. Mary Jean Brown, Designated Federal Officer, Advisory Committee on Childhood Lead Poisoning Prevention, Department of Health and Human Services, 1600 Clifton Road, NE., M/S F60, Atlanta, GA 30333, Telephone: 770/488-7492 or Fax 770/488-3635.

The Director, Management Analysis and Services Office, has been delegated the authority to sign Federal Register notices pertaining to announcements of meetings and other committee management activities, for both the Centers for Disease Control and Prevention and the Agency for Toxic Substances and Disease Registry.

Dated: November 13, 2009.
Elaine L. Baker,
Director, Management Analysis and Services Office, Centers for Disease Control and Prevention.

[FR Doc. E9-28073 Filed 11-23-09; 8:45 am]

BILLING CODE 4163-18-P